DEPARTMENT OF TRANSPORTATION

Federal Transit Administration

Intent To Prepare an Environmental Impact Statement on the Restoration of Rail Service in the Northern Branch Corridor, Bergen and Hudson Counties, NJ

AGENCY: Federal Transit Administration (FTA).

ACTION: Notice of intent to prepare an Environmental Impact Statement (EIS).

SUMMARY: The Federal Transit Administration (FTA) and the New Jersey Transit Corporation (NJ TRANSIT) intend to prepare an Environmental Impact Statement to study the restoration of rail passenger service on the Northern Branch rail corridor between North Bergen, Hudson County, and Tenafly, Bergen County. The EIS will be prepared in accordance with the National Environmental Policy Act (NEPA: 42 U.S.C. 4321 et seq.) of 1969 and the regulations implementing NEPA set forth in 40 CFR Parts 1500-1508 and 23 CFR Part 771, as well as provisions of the recently enacted Safe, Accountable, Flexible, Efficient Transportation Equity Act: A Legacy for Users (SAFETEA-LU). The purpose of this Notice is to alert interested parties regarding the plan to prepare the EIS, to provide information on the nature of the proposed transit project, to invite participation in the EIS process, including comments on the scope of the EIS proposed in this notice, and to announce that public scoping meetings will be conducted. This notice supersedes the FTA notice of June 18, 2001 entitled “Major Investment Study/Draft Environmental Impact Statement for the Northern Branch Corridor, Bergen County, New Jersey.”

DATES: Written comments on the scope of the EIS should be sent to Linda A. Mosch, P.E., NJ TRANSIT Project Manager, by November 7, 2007. Public scoping meetings will be held on Wednesday, October 24, 2007 at 3 to 5 p.m. and at 7 to 9 p.m. at locations indicated under ADDRESSES below. An interagency scoping meeting will be scheduled after agencies with an interest in the proposed project have been identified.

ADDRESSES: Written comments on the scope of the EIS should be sent to Linda A. Mosch, P.E, Project Director—Northern Branch EIS, NJ TRANSIT, One Penn Plaza East, Newark, NJ 07105-2246. Comments may also be offered at the public scoping meetings. The address for the public scoping meeting is as follows: Crowne Plaza Englewood Hotel, 401 S. Van Brunt St., Englewood, NJ 07631.

This location is accessible by persons with disabilities. If special translation or signing services or other special accommodations are needed, please contact the Project Director, Linda A. Mosch, P.E., at (973) 491-8481 least 48 hours before the meeting. A scoping information packet is available on the NJ TRANSIT Web site at http://NorthernBranchCorridor.com or by calling the Project Director, Linda A. Mosch, P.E., at (973) 491-8481. Copies will also be available at the scoping meetings.

FOR FURTHER INFORMATION CONTACT: Ms. Rebecca Reyes-Alicea, Community Planner, Federal Transit Administration, One Bowling Green, Room 429, New York, New York, 10004-1415, telephone (212) 668-2203.

SUPPLEMENTARY INFORMATION: I. Scoping

In accordance with Section 6002 of SAFETEA-LU, FTA and NJT invite comment on the scope of the EIS, specifically on project's purpose and need, the alternatives to be evaluated that may address the purpose and need, and the impacts of the alternatives considered. To ensure that these issues are identified, the scoping meetings will begin with a formal presentation followed by the opportunity for the public to comment on the scope of the EIS. Oral and written comments may be given at the scoping meetings; a stenographer will record all comments. Those wishing to speak are required to register at the meeting location. Registration to speak will begin at 2:30 p.m. and will remain open until 4:30 p.m. for the afternoon session; registration to speak will begin at 6:30 p.m. and will remain open until 8:30 p.m. for the evening session. Written comments may be submitted at the meeting or may be mailed to the project manager at the address in ADDRESSES above.

II. Purpose and Need for the Proposed Project

The purpose of the Northern Branch project is to address the transportation needs of the Northern Branch Corridor through the re-introduction of rail transit service. The project area is heavily populated and is centrally located in the New York/New Jersey metropolitan area. The area is directly west of the Hudson River, in close proximity to Manhattan. The area's location relative to New York City has played an important role in its development and continues to be an important factor in the economy of the area.

Most of the transportation problems in the project area are the result of the great changes that have taken place during the past 30 years. While Bergen County's population had not changed significantly until 1990, there have been other significant changes. The number of households has grown, resulting in smaller households and more workers per household than in the past. Even more significant has been the growth in employment from 1960 to today. The number of jobs only tells part of the story about the project area's economy. The economy is diversifying. A growing number of the jobs are now service oriented, with fewer in the manufacturing sector. This shift has contributed to the area's transportation problems because service sector businesses generate more trips than manufacturing businesses, especially during the off-peak travel periods.

The growth in households and the diversification of the economy have caused an increase in travel in the project area in recent years. The increases have been during the peak travel periods, the off-peak weekday periods, and the weekend periods. Congestion on the roads is a growing problem, which is reducing overall mobility in the area and could constrain future economic growth, and may affect the area's very high standard of living.

While the transportation system continues to provide a fairly high level of mobility for some residents and businesses, many parts of the system are straining to accommodate the new demands caused by a growing economy. The area's roadways provide the best evidence of the strains on the system. While more roads are congested for longer periods, there are few opportunities to expand local or regional roadway capacity. The project area has a substantial transit system. However, there is evidence that the system is not providing service for all of the markets that could be served. Further investments in transit would improve mobility in Bergen County, alleviating some traffic congestion, and supporting continued economic growth. Provision of new transportation service in the Northern Branch Corridor would address:

• Commuting to New York City (trans-Hudson) from Bergen County;

• Inter- and intra-corridor commuting, both to employment centers within the project corridor, and from the project corridor to employment locations in other areas of New Jersey; and,

• Non-work trips including business, shopping, recreational, and education to New York City, within the corridor, and to destinations outside the corridor in New Jersey.

Based on the needs identified in the project area, goals and objectives in the Northern Branch Corridor were identified in the early planning studies and are as follows.

Goal 1: Meet the Needs of Travelers in the Project Area

Objectives:

• Attract riders to transit. A central goal of the project is to attract more riders to rail transit in the Northern Branch corridor. In spite of its proximity to New York, eastern Bergen County continues to have high single occupancy vehicle commutation. The goal of re-introducing rail transit is to encourage a greater transit ridership both on opening day and into the future.

• Improve travel time. Travelers in the project area put a high value on their time, and are looking for travel options that will improve their travel time and reliability.

• Improve convenience. Travelers are looking for new travel options that will make traveling in the region more convenient. They are looking for frequent service, adequate parking at stations, competitive travel times, and convenient connections to other transit services, such as ferries, PATH, and feeder services.

• Provide more options for travelers. Today, travelers are severely limited in their travel options. Transit can be used for only a very small portion of the area's travel needs. Travelers want more travel options to meet their diverse travel needs. Options could include service to many destinations, including Midtown, Lower Manhattan, the Hudson River Waterfront, Newark, and recreational areas, such as the Sports Complex and the Jersey Shore, especially on weekends and at night.

• Improve services for the low-income/minority/transit dependent travelers. Transit dependent residents in the project area need good transit options to more of the region's jobs, not only the jobs in Manhattan, but growing employment centers in New Jersey, like the Hudson River Waterfront area, Newark, the Meadowlands, and Bergen and Rockland employment centers.

Goal 2: Advance Cost-Effective Transit Solutions

Objectives:

• Support favorable farebox recovery. For the vast majority of transit systems, fare revenue does not cover the cost of providing service. However, higher farebox recovery ratios allow transit agencies to maximize the amount of service that can be provided for the same dollar of public operating subsidy. One of the goals of the Northern Branch project is to introduce rail transit to the corridor in a manner that is sensitive to the need to minimize the operating subsidy required to run the service. This will help ensure that the provision of transit service in the corridor is financially sustainable.

• Advance cost-effective transit solutions. The objective is to advance a project that, from a cost-benefit perspective, provides the greatest overall benefit at the lowest capital cost.

• Support future expansion, scalability and affordability. The Northern Branch project should allow for future transit expansion while at the same time provide a solution that is affordable to construct. With limited capital funds, the ability to advance projects in phases helps to keep the projects affordable. Project scalability allows projects to be constructed without precluding future expansion projects. One of the criteria on which the Northern Branch project will be evaluated is the degree to which one phase of a project integrates into a more global planning effort for transportation improvement in the region.

Goal 3: Encourage Economic Growth

Objectives:

• Provide transportation capacity to support growth. Population and employment growth in and around Bergen County and Hudson County is expected to continue in the future. Additional transportation capacity and new travel options will be needed to support this growth, providing access between the jobs in the counties and surrounding residential communities. Growing congestion will continue to have negative impacts on the area's economy in the future.

• Help attract new businesses. Companies looking to locate new facilities, or expand existing facilities in Bergen County and Hudson County, will be looking for assurances that steps are being taken to provide the area with new travel alternatives. One of the major assets of this area is its proximity to New York City and its role in sustaining the strength of the State Plan's Metropolitan Planning Area. New transportation choices that improve access to New York and the rest of the region will help Bergen County and Hudson County to maintain its competitive advantage in the region.

Goal 4: Improve regional access

Objectives:

• Provide connections to a variety of locations within the region. With the one exception of Manhattan, Bergen County's access to the rest of the region is almost entirely by auto, on highways that are becoming increasingly congested. With the completion of the Secaucus Transfer, the areas served by the Main, Bergen, and Pascack Valley lines now benefit from rail access to the growing Hudson River Waterfront area, to Newark, to Trenton, and to the major recreational attractions, like the Meadowlands and the New Jersey Shore.

Goal 5: Reduce Roadway Congestion

Objectives:

• Provide more travel options for travelers trying to avoid highway congestion. Major regional highways in the project area are heavily congested. There are a limited number of major highways, each serving intra-county and regional travel needs. Congestion in Bergen County is a growing problem, which is likely to become more serious in the future. Transit strategies are unlikely to substantially reduce congestion, but can provide useful new travel alternatives for travelers trying to avoid congestion.

Goal 6: Enhance the Transit Network

Objectives:

• Eliminate gaps in the rail network. Bergen County's transit share for trips to Manhattan is lower than any other part of northern New Jersey. This is due to several gaps in the transit network serving the area. For example, there is no rail service in eastern Bergen County. The closest rail line is the Pascack Valley Line, which is west of the Hackensack River. This inconvenient and capacity-constrained line is not an option for most residents of eastern Bergen County. Also, rail service is infrequent during off-peak periods. Rail service is best to Lower Manhattan, via PATH and ferry, less effective to the Valley, between Canal Street and 34th Street, via PATH, and most difficult to Midtown.

• Eliminate gaps in the bus network. The bus network in eastern Bergen County also has some gaps. First, the network only serves Midtown Manhattan. Also, in the eastern most parts of the county, there is little or no bus service. In the more central parts of the study area there are many bus routes. However, these routes are generally slow because they travel on local roads and make many stops along the route to pick up passengers.

III. Alternatives Proposed for Consideration

It is proposed that the EIS evaluate a Future No Build Alternative and Build alternatives of two modes: diesel-multiple-unit service from North Bergen to Tenafly, with a connection to the Hudson-Bergen Light Rail at Tonnelle Avenue in North Bergen; and an extension of the Hudson-Bergen Light Rail from its existing terminus at Tonnelle Avenue in North Bergen to Tenafly. Additionally, the EIS will evaluate both modal alternatives with a terminus at NJ Route 4 in Englewood.

Future No Build Alternative: the Future No Build consists of the transportation system expected to be in place in the project design year if the proposed project were not built. It includes all other projects currently in the North Jersey Transportation Authority's 20-year metropolitan transportation plan.

Diesel-multiple-unit vehicle: These alternatives would involve simultaneous operation of rail passenger and freight operations using the Northern Branch Corridor right-of-way. Terminal stations would be located at Tenafly, in the vicinity of Hudson Avenue; or at NJ Route 4 in Englewood.

Light rail vehicle: These alternatives would involve time-separated operation of rail passenger and freight operations using the Northern Branch Corridor right-of-way. Rail passenger service would operate between 5:30 a.m. and 10:30 p.m. with freight operations between 11 p.m. and 5 a.m. Terminal stations would be located at Tenafly, in the vicinity of Hudson Avenue; or at NJ Route 4 in Englewood. In order to accommodate the shift of freight service to nighttime operation, corridor improvements would be constructed between Tenafly and Northvale.

The build alternatives will involve construction of new transportation infrastructure, including tracks, stations and yards. As many as 11 station locations will be evaluated. Any additional reasonable alternatives that come to light during the scoping process will also be evaluated.

IV. Probable Effects

The FTA and NJ TRANSIT will evaluate both project-specific and cumulative changes to the social, economic and physical environment—including land use and socioeconomic conditions, ecology, water resources, historic and archaeological resources, visual character and aesthetics, contaminated and hazardous materials, transportation, air quality, noise and vibration, and environmental justice effects. Mitigation of all adverse impacts will be considered.

V. FTA Procedures

In accordance with 23 CFR 771.105(a) and 771.133, FTA will comply with all Federal environmental laws, regulations, and executive orders applicable to the proposed project during the environmental review process to the maximum extent practicable. These requirements include, but are not limited to, the regulations of the Council on Environmental Quality and FTA implementing NEPA (40 CFR parts 1500-1508, and 23 CFR Part 771), the project-level air quality conformity regulation of the U.S. Environmental Protection Agency (EPA) (40 CFR part 93), the section 404(b)(1) guidelines of EPA (40 CFR part 230), the regulation implementing section 106 of the National Historic Preservation Act (36 CFR Part 800), the regulation implementing section 7 of the Endangered Species Act (50 CFR part 402), section 4(f) of the DOT Act (23 CFR 771.135), and Executive Orders 12898 on environmental justice, 11988 on floodplain management, and 11990 on wetlands.

Issued on: September 24, 2007.
Brigid Hynes-Cherin,
Regional Administrator, FTA Region 2.

[FR Doc. E7-19434 Filed 10-1-07; 8:45 am]

BILLING CODE 4910-57-P